DEPARTMENT OF COMMERCE

Foreign-Trade Zones Board

[B-70-2012]

Foreign-Trade Zone 265—Conroe, TX; Authorization of Production Activity; Bauer Manufacturing, Inc. (Pile Drivers and Boring Machinery), Conroe, TX

On September 12, 2012, the City of Conroe, Texas, grantee of FTZ 20, submitted a notification of proposed production activity to the Foreign-Trade Zones (FTZ) Board on behalf of Bauer Manufacturing, Inc., within FTZ 265—Site 1, in Conroe, Texas.

The notification was processed in accordance with the regulations of the FTZ Board (15 CFR part 400), including notice in the Federal Register inviting public comment (77 FR 58354, 9-20-2012). The FTZ Board has determined that no further review of the activity is warranted at this time. The production activity described in the notification is authorized, subject to the FTZ Act and the Board's regulations, including Section 400.14.

Dated: January 11, 2013.
Andrew McGilvray,
Executive Secretary.

[FR Doc. 2013-00948 Filed 1-17-13; 8:45 am]

BILLING CODE P